SECURITIES AND EXCHANGE COMMISSION

[OMB Control No. 3235-0307, SEC File No. 270-21]

Submission for OMB Review; Comment Request

Upon Written Request Copies Available From: Securities and Exchange Commission, Office of Investor Education and Advocacy, Washington, DC 20549-0213.

Extension:

Form N-1A.

Notice is hereby given that pursuant to the Paperwork Reduction Act of 1995 (44 U.S.C. 3501 et seq.), the Securities and Exchange Commission (“Commission”) has submitted to the Office of Management and Budget (“OMB”) a request for extension of the previously approved collection of information discussed below.

Form N-1A (17 CFR 239.15A and 274.11A) is the form used by open-end management investment companies (“funds”) under the Investment Company Act of 1940 (15 U.S.C. 80a-1 et seq.) (“Investment Company Act”) and/or to register their securities under the Securities Act of 1933 (15 U.S.C. 77a et seq.) (“Securities Act”). Section 5 of the Securities Act (15 U.S.C. 77e) requires the filing of a registration statement prior to the offer of securities to the public and that the statement be effective before any securities are sold, and Section 8 of the Investment Company Act (15 U.S.C. 80a-8) requires a fund to register as an investment company. Form N-1A also permits funds to provide investors with a prospectus and a statement of additional information (“SAI”) covering essential information about the fund when it makes an initial or additional offering of its securities. Section 5(b) of the Securities Act requires that investors be provided with a prospectus containing the information required in a registration statement prior to the sale or at the time of confirmation or delivery of the securities. The form also may be used by the Commission in its regulatory review, inspection, and policy-making roles.

The Commission estimates that there are 48 initial registration statements and 5,642 post-effective amendments to initial registration statements filed on Form N-1A annually and that the average number of portfolios referenced in initial registration statements is 7.5, and the average number of portfolios referenced in post-effective amendment is 1.7. The Commission further estimates that the hour burden for preparing and filing a post-effective amendment on Form N-1A is 133.75 hours per portfolio. The total annual hour burden for preparing and filing post-effective amendments is 1,279,720 hours (5,642 post-effective amendments × 133.75 hours per portfolio). The estimated annual hour burden for preparing and filing initial registration statements is 298,969 hours (48 initial registration statements × 830.47 hours per portfolio). The total annual hour burden for Form N-1A, therefore, is estimated to be 1,578,689 hours (1,279,720 hours + 298,969 hours).

The information collection requirements imposed by Form N-1A are mandatory. Responses to the collection of information will not be kept confidential. An agency may not conduct or sponsor, and a person is not required to respond to a collection of information unless it displays a currently valid control number.

The public may view the background documentation for this information collection at the following Web site, www.reginfo.gov. Comments should be directed to: (i) Desk Officer for the Securities and Exchange Commission, Office of Information and Regulatory Affairs, Office of Management and Budget, Room 10102, New Executive Office Building, Washington, DC 20503, or by sending an email to: Shagufta_Ahmed@omb.eop.gov; and (ii) Thomas Bayer, Chief Information Officer, Securities and Exchange Commission, c/o Remi Pavlik-Simon, 6432 General Green Way, Alexandria, VA 22312 or send an email to: PRA_Mailbox@sec.gov. Comments must be submitted to OMB within 30 days of this notice.

Dated: January 8, 2013.
Kevin M. O'Neill,
Deputy Secretary.

[FR Doc. 2013-00519 Filed 1-11-13; 8:45 am]

BILLING CODE 8011-01-P